SECURITIES AND EXCHANGE COMMISSION

Sunshine Act Meeting

Notice is hereby given, pursuant to the provisions of the Government in the Sunshine Act, Public Law 94-409, that the Securities and Exchange Commission will hold a Roundtable on Mark-to-Market Accounting on Wednesday, October 29, 2008 beginning at 9 a.m.

The Roundtable will take place in the Auditorium of the Commission's headquarters at 100 F Street, NE., Washington DC. The Roundtable will be open to the public with seating on a first-come, first-served basis. Doors will open at 8:30 a.m. Visitors will be subject to security checks.

The roundtable will consist of an open discussion on implications of mark-to-market accounting on the recent period of market turmoil. The roundtable will be organized as two panels, each consisting of investors, issuers, auditors and other parties with experience in mark-to-market accounting.

For further information, please contact the Office of the Secretary at (202) 551-5400.

Dated: October 21, 2008.
Jill M. Peterson,
Assistant Secretary.

[FR Doc. E8-25428 Filed 10-24-08; 8:45 am]

BILLING CODE 8011-01-P